DEPARTMENT OF THE INTERIOR

Bureau of Indian Affairs

[201D0102DR/DS5A300000/DR.5A311.IA000118]

Land Acquisitions; Osage Nation, Pawhuska Property, Oklahoma

AGENCY: Bureau of Indian Affairs, Interior.

ACTION: Notice.

SUMMARY: The Assistant Secretary—Indian Affairs made a final agency determination to acquire 63.1 acres, more or less, of land known as the Pawhuska Property in Osage County, Oklahoma, in trust for the Osage Nation for gaming and other purposes on June 26, 2020.

FOR FURTHER INFORMATION CONTACT: Ms. Paula L. Hart, Director, Office of Indian Gaming, Mailstop 3543, 1849 C Street NW, Washington, DC 20240, telephone (202) 219-4066.

SUPPLEMENTARY INFORMATION: On June 26, 2020, the Assistant Secretary—Indian Affairs made a final agency determination to accept land into trust for the Osage Nation under the authority of the Indian Reorganization Act of June 18, 1934, 25 U.S.C. 5108. The Assistant Secretary—Indian Affairs also determined that the Osage Nation meets the requirements of the Indian Gaming Regulatory Act's “Oklahoma exception,” 25 U.S.C. 2719(a)(2)(A)(i), to the general prohibition contained in 25 U.S.C. 2719(a) on gaming on lands acquired in trust after October 17, 1988.

The Assistant Secretary—Indian Affairs, on behalf of the Secretary of the Interior, will immediately acquire title to the Pawhuska Property, 63.1 acres, more or less, in the name of the United States of America in Trust for Osage Nation upon fulfillment of all Departmental requirements. The 63.1 acres, more or less, are described as follows:

Legal Description of Property

A parcel or tract of land in the Northwest Quarter of the Southwest Quarter (NW/4 of the SW/4) and part of the South Half of the Northwest Quarter (S/2 of the NW/4) of Section Two (2), Township Twenty-five (25) North, Range Nine (9) East of the Indian Base and Meridian, Osage County, Oklahoma, more particularly described as follows:

Commencing at the Southwest corner of the S/2 NW/4; thence N 01°06′02″ W along the Westerly line of said S/2 NW/4 for 611.20 feet; thence N 82°51′58″ E for 182.05 feet to the point of beginning of said tract of land, thence continuing N 82°51′58″ E for 47.95 feet; thence N 73°16′58″ E for 430.00 feet; thence N 88°51′58″ E for 1272.93 feet to a point at the centerline of Bird Creek; thence S 47°23′50″ W along said centerline for 134.88 feet; thence S 39°43′47″ W along said centerline for 306.80 feet to a point of curve; thence Southwesterly, Southerly and Southeasterly along said centerline on a curve to the left having a central angle of 113°05′30″, a radius of 130.00 feet, a chord bearing of S 16°48′58″ E, and a chord distance of 216.93 feet for an arc length of 256.60 feet to a point of tangency; thence S 73°21′43″ E along said centerline for 386.38 feet to a point of curve; thence Southeasterly along said centerline on a curve to the right having a central angle of 20°49′19″, a radius of 550.00 feet, a chord bearing of S 62°57′03″ E, and a chord distance of 198.78 feet for an arc length of 199.88 feet to a point on the Southerly line of said S/2 NW/4; thence S 88°38′24″ W along said Southerly line for 901.32 feet to the Northeast corner of said NW/4 SW/4; thence S 00°58′53″ E along the Easterly line of said NW/4 SW/4 for 1313.82 feet to the Southeast corner of said NW/4 SW/4; thence S 88°41′32″ W along the Southerly line of said NW/4 SW/4 for 1264.28 feet to a point, said point being N 88°41′32″ E a distance of 51.32 feet from the Southwest corner of said NW/4 SW/4; thence N 04°03′46″ E for 1318.54 feet to a point on the Northerly line of said NW/4 SW/4, said point being N 88°38′24″ E a distance of 166.56 feet from the Southwest corner of said S/2 NW/4; thence N 04°00′06″ E for 153.36 feet; thence N 00°59′56″ W for 476.83 feet to the point of beginning of said tract of land, containing 63.100 acres, more or less. SURFACE ONLY.

Authority

This notice is published in the exercise of authority delegated by the Secretary of the Interior to the Assistant Secretary—Indian Affairs by 209 Departmental Manual 8.1, and is published to comply with the requirements of 25 CFR 151.12(c)(2)(ii) that notice of the decision to acquire land in trust be promptly provided in the Federal Register.

Tara Sweeney,
Assistant Secretary—Indian Affairs.

[FR Doc. 2020-15487 Filed 7-16-20; 8:45 am]

BILLING CODE 4337-15-P